DEPARTMENT OF COMMERCE

International Trade Administration

[A-570-831]

Fresh Garlic From the People's Republic of China: Preliminary Results, Partial Rescission, and Preliminary Intent To Rescind Antidumping Duty Administrative Review; 2021-2022

AGENCY: Enforcement and Compliance, International Trade Administration, Department of Commerce.

SUMMARY: The U.S. Department of Commerce (Commerce) preliminarily determines that Jining Huahui International Co., Ltd. (Huahui) did not make bona fide sales of fresh garlic during the period of review (POR) November 1, 2021, through October 31, 2022. Therefore, Commerce preliminarily intends to rescind this administrative review with respect to Huahui. Interested parties are invited to comment on the preliminary results of this review.

DATES: Applicable December 6, 2023.

FOR FURTHER INFORMATION CONTACT: Charles DeFilippo or Jacob Saude, AD/CVD Operations, Office VII, Enforcement and Compliance, International Trade Administration, U.S. Department of Commerce, 1401 Constitution Avenue NW, Washington, DC 20230; telephone: (202) 482-3797 or 202-482-0981, respectively.

SUPPLEMENTARY INFORMATION:

Background

On November 1, 2022, Commerce published a notice of opportunity to request an administrative review of the antidumping duty order on fresh garlic from the People's Republic of China (China)for the POR.¹ On November 30, 2022, the petitioners,² Zhengzhou Harmoni Spice Co., Ltd. (Harmoni), and Huahui each timely requested an administrative review.³ On January 3, 2023, based on these timely requests for administrative review, Commerce initiated this administrative review.⁴ On January 13, 2023, the petitioners and Harmoni each withdrew their review requests, leaving Huahui as the sole remaining exporter subject to this review.⁵ On July 11, 2023, Commerce extended the time for issuing the preliminary results of this review to November 30, 2023.⁶

¹ See Antidumping or Countervailing Duty Order, Finding, or Suspended Investigation; Opportunity To Request Administrative Review and Join Annual Inquiry Service List, 87 FR 65750 (November 1, 2022).

² The petitioners are the Fresh Garlic Producers Association and its individual members. The members of the Fresh Garlic Producers Association are: Christopher Ranch LLC; The Garlic Company; and Valley Garlic, Inc.

³ See Petitioners' Letter, “Petitioners' Request for Administrative Review,” dated November 30, 2022; see also Harmoni's Letter, “Request for Administrative Review of the Antidumping Duty Order on Fresh Garlic from the People's Republic of China,” dated November 30, 2022; and Huahui's Letter, “Request for Administrative Review,” dated November 30, 2022.

⁴ See Initiation of Antidumping and Countervailing Duty Administrative Reviews, 88 FR 50 (January 3, 2023).

⁵ See Petitioners' Letter, “Petitioners' Withdrawal of Review Requests,” dated January 13, 2023; see also Harmoni's Letter, “Harmoni Withdrawal of Review Request,” dated January 13, 2023.

⁶ See Memorandum, “Extension of Deadline for Preliminary Results of Antidumping Duty Administrative Review,” dated July 11, 2023.

For a complete description of the events that followed the initiation of this investigation, see the Preliminary Decision Memorandum.⁷ A list of topics discussed in the Preliminary Decision Memorandum is attached as the appendix to this notice. The Preliminary Decision Memorandum is a public document and is made available to the public via Enforcement and (ACCESS). ACCESS is available to registered users at https://access.trade.gov. In addition, a complete version of the Preliminary Decision Memorandum is available at https://access.trade.gov/public/FRNoticesListLayout.aspx.

⁷ See Memorandum, “Decision Memorandum for the Preliminary Results of the 2021-2022 Antidumping Duty Administrative Review: Fresh Garlic from the People's Republic of China,” dated concurrently with, and hereby adopted by, this notice (Preliminary Decision Memorandum).

Scope of the Order

The product covered by the order is fresh garlic from China. For a complete description of the scope of this investigation, see the Prelimianry Decision Memorandum.

Methodology

Commerce is conducting this review in accordance with section 751(a)(1)(B) of the Tariff Act of 1930, as amended (the Act). For a full description of the methodology underlying our conclusions, see the Preliminary Decision Memorandum.

Partial Rescission

Pursuant to 19 CFR 351.213(d)(1), Commerce will rescind an administrative review, in whole, or in part, if the party that requested a review withdraws the request within 90 days of the date of publication of the notice of initiation. As noted above, the petitioners and Harmoni timely withdrew their review requests. All requests to review the following companies were timely withdrawn: (1) Laiwu Ever Green Food Co., Ltd.; (2) Laiwu Manhing Vegetables Fruits Corp.; (3) Laiwu Taifeng Foods Co., Ltd.; (4) Ningbo Raffini Import & Export Co., Ltd.; (5) Qingdao Muyi International Trading Co., Ltd.; (6) Shandong Bairun Food Co., Ltd.; (7) Shanghai Yongtie Enterprise Management; and (8) Zhengzhou Harmoni Spice Co., Ltd. Because Huahui requested a review of itself, and did not withdraw its request, we are rescinding this review, in part, with respect to the companies in the petitioners and Harmoni's review requests, except for Huahui, pursuant to 19 CFR 351.213(d)(1).

Intent To Rescind Administrative Review

As discussed in the Preliminary Decision Memorandum and Bona Fide Analysis Memorandum, Commerce preliminarily finds that the sales made by Huahui serving as the basis for this review are not bona fide sales of fresh garlic.⁸ Commerce reached this conclusion based on the totality of the record information surrounding Huahui's reported sales, including, but not limited to, the sales prices, the profitability of the resold subject merchandise, the late payments, and the likelihood of future sales.

⁸ See Preliminary Decision Memorandum; see also Memorandum, “Preliminary Bona Fide Sales Analysis for Jining Huahui International Co., Ltd.,” dated concurrently with, and hereby adopted by, this notice (Bona Fide Analysis Memorandum).

Because the non-bona fide sales were the only reported sales of subject merchandise during the POR, we find that Huahui had no reviewable transactions during this POR. Accordingly, we preliminarily intend to rescind this administrative review.⁹ The factual information used in our bona fides analysis of Huahui's sales involves business proprietary information. See the Bona Fide Analysis Memorandum for a full discussion of the basis for our preliminary findings.

⁹ See 19 CFR 351.213(d)(3).

Disclosure and Public Comment

Pursuant to 19 CFR 351.309(c), interested parties may submit case briefs to Commerce no later than than 30 days after the date of publication of this notice. Rebuttal briefs, limited to issues raised in the case briefs, may be filed not later than five days after the date for filing case briefs.¹⁰ Interested parties who submit case briefs or rebuttal briefs in this proceeding must submit: (1) a table of contents listing each issue; and (2) a table of authorities.¹¹

¹⁰ See 19 CFR 351.309(d); see also Administrative Protective Order, Service, and Other Procedures in Antidumping and Countervailing Duty Proceedings, 88 FR 67069, 67077 (September 29, 2023) (APO and Service Final Rule).

¹¹ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹² Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹³

¹² We use the term “issue” here to describe an argument that Commerce would normally address in a comment of the Issues and Decision Memorandum.

¹³ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Verification

On April 13, 2023, Commerce received a timely request from the petitioners to verify the information submitted by Huahui in the course of this administrative review, pursuant to section 782(i)(3). Because we intend to rescind this administrative review with respect to Huahui, we are not conducting a verification.

Assessment Rates

If Commerce proceeds to a final rescission of this administrative review, the assessment rate to which Huahui's shipments are subject will not be affected by this review. If Commerce does not proceed to a final rescission of this administrative review, pursuant to 19 CFR 351.212(b)(1), we will calculate importer-specific (or customer-specific) assessment reates based on the final results of this review.

For the companies for which this review is rescinded, antidumping duties shall be assessed at rates equal to the cash deposit of estimated antidumping duties required at the time of entry, or withdrawal from warehouse, for consumption, in accordance with 19 CFR 351.212(c)(l)(i).

Cash Deposit Requirements

If Commerce proceeds to a final recission of ths administrative review, Huahui's cash deposit rate will continue to be the China-wide rate of $4.71 per kilogram.¹⁴ If Commerce issues the final results for this administrative review, Commerce will instruct U.S. Customs and Border Protection to collect cash deposits, effective upon the publication of the final results, at the rates established therein.

¹⁴ See Fresh Garlic from the People's Republic of China: Final Results and Partial Rescission of the 14th Antidumping Duty Administrative Review, 75 FR 34976 (June 21, 2010).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results of review in accordance with sections 751(a)(1) and 777(i)(1) of the Act, 19 CFR 351.213(h)(2), and 19 CFR 351.221(b)(4).

Dated: November 29, 2023.
Abdelali Elouaradia,
Deputy Assistant Secretary for Enforcement and Compliance.

Appendix—List of Topics Discussed in the Preliminary Decision Memorandum

I. Summary

II. Background

III. Scope of the Order

IV. Rescission of Administrative Review, In Part

V. Discussion of the Methodology

VI. Recommendation

[FR Doc. 2023-26719 Filed 12-5-23; 8:45 am]

BILLING CODE 3510-DS-P